DEPARTMENT OF ENERGY

Federal Energy Regulatory Commission

[Docket No. CP03-294-000]

Portland Natural Gas Transmission System; Notice of Request Under Blanket Authorization

May 15, 2003.

Take notice that on May 8, 2003, Portland Natural Gas Transmission System (PNGTS) filed a prior notice request pursuant to Sections 157.205 and 157.211(a)(2) of the Federal Energy Regulatory Commission's Regulations under the Natural Gas Act, and PNGTS's blanket certificate issued in Docket No. CP96-238 et al., for authorization to construct and operate new metering and related facilities in Westbrook, Maine.

PNGTS states that it is proposing to construct the facilities in compliance with Section 4.3 of its rate settlement approved by the Commission in Docket No. RP02-13-000 on January 14, 2003, which requires PNGTS to construct facilities to allow for the bi-directional flow of gas on its system north of its Westbrook interconnect. PNGTS states that the proposed facilities consist of a pipeline meter, meter runs, and various valves, which will enable PNGTS to receive gas from the Maritimes & Northeast Pipeline, L.L.C. (Maritimes) system. PNGTS states that the proposed facilities will be constructed and reside entirely within the existing meter station site where PNGTS and Maritimes interconnect. PNGTS estimates the cost of constructing the proposed facilities is $539,000.

Any questions regarding this filing should be directed to David B. Morgan, Director, Marketing and Rates, Portland Natural Gas Transmission System, One Harbour Place, Suite 375, Portsmouth, New Hampshire 13801; or by telephone at (603) 559-5503 or FAX at (603) 427-2807.

Any person or the Commission's staff may, within 45 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the NGA.

Comments, protests and interventions may be filed electronically via the Internet in lieu of paper. See 18 CFR 385.2001(a)(1)(iii) and the instructions on the Commission's Web site under the “e-Filing” link. The Commission strongly encourages electronic filings.

Magalie R. Salas,
Secretary.

[FR Doc. 03-12822 Filed 5-21-03; 8:45 am]

BILLING CODE 6717-01-P